FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—07/11/2005
20051164 | eBay Inc. | Shopping.com Ltd | Shopping.com Ltd.
20051166 | Tenaska Power Fund, L.P | Calpine Corporation | Caloube Construction Finance Company, Calpine Philadelphia, Inc.
20051197 | Ultra Electronics Holdings, plc | Jonathan D. Adams | Audiopack Technologies, Inc.
20051200 | James D. Dondero | Leap Wireless International, Inc | Leap Wireless International, Inc.
20051225 | MidCountry Financial Corporation | Alfa Corporation | Alfa Financial Corporation.
20051228 | Wind Hotels Holdings Inc | Wyndham International, Inc | Wyndham International, Inc.
20051229 | Welsh, Carson, Anderson & Stowe IX, L.P | Franck L. Gougeon | AGA Medical Corporation.
20051230 | Triton Acquisition Holding Co. | Maytag Corporation | Maytag Corporation.
20051233 | Network Appliance, Inc | Decru, Inc | Decru, Inc.
20051236 | Ford Motor Company | Visteon Corporation | Newco.
20051237 | Copano Energy, L.L.C | Precourt Interests, Ltd | ScissorTail Energy, LLC.
20051242 | Mitsubishi Corporation | Calpine Corporation | Calpine Morris, LLC.
20051246 | Parametric Technology Corporation | Arbortext, Inc | Arbortext, Inc.
20051247 | MCNA Cable Holdings LLC | ML Media Companies, Inc | Century-ML Cable Venture, a debtor-in-possession.
20051249 | MCNA Cable Holdings LLC | Adelphia Communications Corporation, a debtor-in-possession | Century-ML Cable Venture, a debtor-in-possession.
Transactions Granted Early Termination—07/12/2005
20051252 | New Century Financial Corporation | Royal Bank of Canada | RBC Mortgage Company.
Transactions Granted Early Termination—07/13/2005
20051203 | Danaher Corporation | John W. Spencer and Janelle Spencer | Dental Equipment, LLC.
20051209 | Computer Associates International, Inc | Niku Corporation | Niku Corporation.
20051235 | Mega Bloks Inc | Rose Art Industries, Inc. | Rose Art Industries, Inc.
20051251 | Jupitermedia Corporation | Jeffrey Burke and Lorraine Triolo | PictureArts Corporation.
20051256 | Shepherd Investments International, Ltd | IEG Virtual Studios LLC | IEG Virtual Studios LLC.
20051285 | Rudolph Technologies, Inc | August Technology Corporation | August Technology Corporation.
Transactions Granted Early Termination—07/14/2005
20051224 | Aetna Inc | KRG Capital Fund II, L.P | HMS Healthcare, Inc.
20051244 | Bushnell Performance Optics | Wells Fargo & Company | Mike's Holding Company.
Transactions Granted Early Termination—07/15/2005
20051248 | V&S Vin Sprit AB | CL Financial, Ltd | Cruzan International, Inc.
20051265 | KRG Capital Fund II, L.P | P. Scott Lowery | Collect America, Ltd.
20051273 | Leucadia National Corporation | VarTec Telecom, Inc. (Debtor-in-Possession) | Excelcom, Inc., Excel Communications Marketing, Inc., Excel Management Service, Inc., Excel Products, Inc., Excel Telecommunications, Inc., Excel Telecommunications of Virginia, Inc., Excel Teleservices, Inc., Telco Communications Group, Inc., Telco Nework Services, Inc., VarTec Business Trust, VarTec Properties, Inc., VarTec Resource Services, Inc., VarTec Solutions, Inc., VarTec Telecom Holding Company, VarTec Telecom International Holding Company, VarTec Telecom of Virginia, Inc.
20051276 | GUS plc | Robert L. Brackett | Credit Data Services.
20051277 | GUS plc | Robert B. Chaffiot | Credit Data Services.
Transactions Granted Early Termination—07/19/2005
20050702 | Novartis AG | Santo Holding AG | Eon Labs, Inc.
20051068 | Pearson plc | Ripplewood Partners, L.P | American Guidance Service Inc.
20051205 | Weatherford International Ltd | Precision Drilling Corporation | Daquing Computalog Rainbow Geotechnical Development Corp., Global Employment Corporation, Global SanteFe Asset Holding, Inc., Global SanteFe Desert Rig Holdings Inc., PD Global Employment Corporation, PD International Services Inc., Precision Drilling Service (Netherlands) B.V., Precision Drilling Services (Oman) & Co. LLC, Precision Drilling Services (Singapore) Pte. Ltd., Precision Drilling Services (Thailand) Ltd., Precision Drilling Services (UK) Ltd., Precision Energy Services Colombia Ltd., Precision Energy Services Inc. (BVI) Ltd., Richdear Holdings Limited.
20051208 | Precision Drilling Corporation | Weatherford International Ltd | Weatherford International Ltd.
20051259 | Rufino Vigil González | PAV Republic, Inc | PAV Republic, Inc.
20051272 | Carl C. Icahn | WestPoint Stevens Inc. (Debtor-in-Possession) | J.P. Stevens Enterprises, Inc., WestPoint Stevens Stores Inc.
20051274 | GUS plc | Luciano Rammairone | ClassesUSA.com.
20051275 | Legg Mason, Inc | Giovanni Agnelli e C.S.a.p.as | Permal Group Ltd.
Transactions Granted Early Termination—07/21/2005
20051239 | International Business Machines Corporation | Robert Barritz | Isogon Corporation.
20051264 | Quadrant AG | Menasha Corporation | Poly Hi Solidur.
Transactions Granted Early Termination—07/22/2005
20051271 | ABN AMRO Holding N.V | UMP-Kymmene Corporation | Loparex B.V., Loparex Inc., Loparex Ltd., Loparex Oy.
20051288 | Schneider Electric SA | Fremont Partners, L.P., | Juno Lighting, Inc.
20051294 | McKesson Corporation | D&K Healthcare Resources, Inc | D&K Healthcare Resources, Inc.
20051298 | AMIS Holdings, Inc | Flextronics International Ltd | Flextronics Semiconductor, Inc.
20051302 | NextMedia Investors LLC | Sumner M. Redstone | Infinity Radio Inc.
Transactions Granted Early Termination—07/25/2005
20051260 | Rosen's Diversified, Inc | American Foods Group, LLC | American Foods Group, LLC
20051296 | H.J. Heinz Company | KRSM Management, LLC | Nancy's Specialty Foods, Inc.
20051297 | Pfleiderer AG | Kunz Holding GmbH & Co. KG | BHT Bau Holztechnik Thurigen GmbH saalburgEbersdorf, Kunz Faserplattenwerk Baruth GmbH, Kunz Gmbh & Co. KG, Gschwend, Kunz Infomatik GmbH, Unterensingen, Unikunz Canada Inc., UTB Unitherm Baruth GmbH Baruth.
20051306 | The British United Provident Association Limited | Michael A. Carricarte | Amedex Insurance Company, Amedex Investment Corporation, Inc., Amedex Worldwide Corporation, Americas International Network Corp., Onup Group Corp., U.S.A. Medical Services Corp., Colgate-Palmolive Company.
Transactions Granted Early Termination—07/26/2005
20050658 | United Technologies Corporation | The Boeing Company | Boeing Management Company.
Transactions Granted Early Termination—07/27/2005
20051261 | Navistar International Corporation | Carlyle Partners III, L.P | Grand Vehicle Works Holdings Corporation.
20051286 | Dover Corporation | Michael D. Lyon | Colder Products Company.
20051289 | Nightwatch Holdings S.A | E.ON AG | Ruhrgas Industries Gmbh.
20051295 | Friedman Fleischer & Lowe Capital Partners II, L.P | Home Health Holdings, Inc | Home Health Holdings, Inc.
Transactions Granted Early Termination—07/28/2005
20051181 | Broadcom Corporation | Siliquent Technologies, Inc | Siliquent Technologies, Inc.
20051280 | Fisher Scientific International, Inc | Marathon Fund Limited Partnership IV | Lancaster Laboratories, Inc.
20051283 | Danaher Corporation | LM Investments S.a.r.l | Leica Microsystems AG.
20051307 | Salix Pharmaceuticals, Ltd | InKine Pharmaceutical Company, Inc | InKine Pharmaceutical Company, Inc.
20051314 | Plantronics, Inc | Altec Lansing Technologies, Inc | Altec Lansing Technologies, Inc.
Transactions Granted Early Termination—07/29/2005
20051254 | Schneider National, Inc. Voting Trust | American Port Services, Inc | American Port Services, Inc.
Transactions Granted Early Termination—08/01/2005
20051270 | HSBC Bank plc | Pactiv Corporation | Wellenfoam N.V.
20051293 | General Electric Company | Welch Allyn Holdings, Inc | Everest VIT, Inc.
20051313 | General Electric Company | AIG Highstar Capital, L.P | Southern Star Central Corp.
20051319 | Berkshire Hathaway Inc | Fleetwood Enterprises, Inc | Expression Homes Corporation, Fleetwood Home Centers of Nevada, Inc., Fleetwood Home Centers of Texas, Inc., Fleetwood Retail Corp., Fleetwood Retail Corp. of Alabama, Fleetwood Retail Corp. of Arizona, Fleetwood Retail Corp. of Arkansas, Fleetwood Retail Corp. of California, Fleetwood Retail Corp. of Colorado, Fleetwood Retail Corp. of Florida, Fleetwood Retail Corp. of Georgia, Fleetwood Retail Corp. of Idaho, Fleetwood Retail Corp. of Illinois, Fleetwood Retail Corp. of Kansas, Fleetwood Retail Corp. of Kentucky, Fleetwood Retail Corp. of Louisiana, Fleetwood Retail Corp. of Michigan, Fleetwood Retail Corp. of Mississippi, Fleetwood Retail Corp. of New Mexico, Fleetwood Retail Corp. of North Carolina, Fleetwood Retail Corp. of Ohio, Fleetwood Retail Corp. of Oklahoma, Fleetwood Retail Corp. of Oregon, Fleetwood Retail Corp. of South Carolina, Fleetwood Retail Corp. of Tennessee, Fleetwood Retail Corp. of Virginia, Fleetwood Retail Corp. of Washington, Fleetwood Retail Corp. of West Virginia, Fleetwood Retail Corporation of Missouri.
20051320 | Sprint Corporation | US Unwired Inc | US Unwired Inc.
20051321 | The Public Warehousing Company—K.S.C | Questor Partners Fund II, L.P | GeoLogistics Corporation.
20051323 | Flextronics International Ltd | Nortel Networks Limited | Nortel Networks Limited, Nortel Networks S.A., Nortel Networks UK Limited.
20051325 | Inergy, L.P | AIG Highstar Capital, L.P | Central New York Oil And Gas Company, eCORP Marketing, LLC.
20051326 | Zhone Technologies, Inc | Paradyne Networks, Inc | Paradyne Networks, Inc.
20051335 | Investment Technology Group, Inc | The MacGregor Group, Inc | The MacGregor Group, Inc.
20051342 | NCO Group, Inc | GTCR Fund V, L.P | Risk Management Alternatives, Inc.
Transactions Granted Early Termination—08/02/2005
20051310 | Ossur HF | Cortec Group Fund III, L.P | Royce Medical Holdings, Inc.
20051315 | Koninklijke Philips Electronics N.V | Stentor, Inc | Stentor, Inc.
20051322 | The Home Depot, Inc | National Waterworks Holdings, Inc/ | National Waterworks Holdings, Inc.
20051338 | Carlyle Partners IV, L.P | Golder, Thoma, Cressey, Rauner Fund V, L.P | LifeCare Holdings, Inc.
Transactions Granted Early Termination—08/03/2005
20051341 | Department 56, Inc | Brown-Forman Corporation | Lenox, Incorporated.
Transactions Granted Early Termination—08/04/2005
20051253 | Integrated Device Technology, Inc | Integrated Circuit Systems, Inc | Integrated Circuit Systems, Inc.
20051268 | Entergy Corporation | Attala 2004 Trust | Central Mississippi Generating Company, LLC
20051303 | Omnicare, Inc | excelleRx, Inc | excelleRx, Inc.
20051316 | New Refco Group Ltd., LLC | Cargill Incorporated | Cargill Investor Services, Inc., Cargill Investor Services Limited, Cargill Investor Services (Singapore) Pte. Ltd., CIS Cash Management, Inc., CIS Financial Services, Inc., CIS Investments, Inc., CIS Securities, Inc.
Transactions Granted Early Termination—08/05/2005
20051308 | Greene Group, Inc | Cemex S.A. de C.V. | RMC Mid-Atlantic, LLC.
20051329 | Polaris Industries Inc | Stefan Pierer | KTM Power Sports AG
20051330 | Polaris Industries Inc | Rudolf Knunz | KTM Power Sports AG.
20051336 | Welsch, Carson, Anderson & Stowe X, L.P | Pharma Services Holding, Inc | Early Development and Packaging Services, USA, L.L.C.
20051337 | WMB Holdings Inc | CityBank | Diligenz, Inc.
20051344 | Perot Systems Corporation | Ronald J. Lockard | Technical Management, Inc.
20051346 | Sagicor Financial Corporation | Vesta Insurance Group, Inc | American Founders Financial Corporation, Laurel Life Insurance Company.
20051349 | Cisco Systems, Inc | Sheer Networks Inc | Sheer Networks Inc.
20051353 | BNP Paribas S.A | FundQuest Incorporated | FundQuest Incorporated.
20051358 | Fiserv, Inc | Great Hill Equity Partners II Limited Partnership | BillMatrix Corporation.
20051364 | Business Objects S.A | Trevor Lloyd | SRC Software, Inc.
20051368 | Barry Diller | Barry Diller | Expedia, Inc.

For Further Information Contact: Sandra M. Peay, Contact Representative or Renee Hallman, Case Management Assistant. Federal Trade Commission, Premerger Notification Office, Bureau of Competition, Room H-303, Washington, DC 20580, (202) 326-3100.

By Direction of the Commission.
Donald S. Clark,
Secretary.

[FR Doc. 05-16778 Filed 8-23-05; 8:45 am]

BILLING CODE 6750-01-M